LIBRARY OF CONGRESS

Copyright Office

[Docket No. 2019-3]

Public Draft of the Compendium of U.S. Copyright Office Practices

AGENCY: U.S. Copyright Office, Library of Congress.

ACTION: Extension of comment period.

SUMMARY: The U.S. Copyright Office is extending the deadline for the submission of written comments in response to its March 15, 2019, notice announcing the release of a public draft of an update to its administrative manual, the Compendium of U.S. Copyright Office Practices, Third Edition.

DATES: The comment period for the notice, published on March 15, 2019, is extended by an additional seventeen days until the end of the month. Comments must be made in writing and must be received in the U.S. Copyright Office no later than 11:59 p.m. Eastern Time on May 31, 2019.

ADDRESSES: The public draft of the update to the Compendium of U.S. Copyright Office Practices, Third Edition is available on the Office's website at https://www.copyright.gov/comp3/draft.html. For reasons of government efficiency, the Copyright Office is using the regulations.gov system for the submission and posting of public comments related to this draft. All comments are therefore to be submitted electronically through regulations.gov. Specific instructions for submitting comments are available on the Copyright Office website at https://www.copyright.gov/comp3/draft/comment-submission. If electronic submission of comments is not feasible due to lack of access to a computer and/or the internet, please contact the Office using the contact information below for special instructions.

FOR FURTHER INFORMATION CONTACT: Jalyce Mangum, Attorney-Advisor, by email at jmang@copyright.gov, or by telephone at 202-707-8350.

SUPPLEMENTARY INFORMATION: On March 15, 2019, the U.S. Copyright Office issued a notice announcing the release of a public draft of an update to its administrative manual, the Compendium of U.S. Copyright Office Practices, Third Edition.¹ The Office updated the manual to reflect the Supreme Court's decision in Star Athletica v. Varsity Brands, 137 S. Ct. 1002 (2017), rulemakings issued over the past two years, and technical upgrades that have been made to the electronic registration system. The update was released in draft form to give the public an opportunity to review and provide comments on the revisions. To ensure that members of the public have sufficient time to respond, and to ensure that the Office has the benefit of a complete record, the Office is extending the submission deadline until the end of the month. Written comments now are due no later than May 31, 2019.

¹ 84 FR 9562 (Mar. 15, 2019).

Dated: May 9, 2019.
Regan A. Smith,
General Counsel and Associate Register of Copyrights.

[FR Doc. 2019-09895 Filed 5-13-19; 8:45 am]

BILLING CODE 1410-30-P